DEPARTMENT OF HEALTH AND HUMAN SERVICES

Health Care Financing Administration

[Document Identifier: HCFA-R-0209 and HCFA-R-0245]

Agency Information Collection Activities: Submission for OMB Review; Comment Request

AGENCY: Health Care Financing Administration, DHHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare and Medicaid Programs: Reporting Outcome and Assessment Information Set (OASIS) Data as Part of the Conditions of Participation for Home Health Agencies and Supporting Regulations in 42 CFR 484.11 and 484.20; Form No.: HCFA-R-0209 (OMB# 0938-0761); Use: The information collection requirements contained in section 484.20 state that HHAs must report data from the OASIS data set as a condition of participation for HHAs. Specifically, the above section provides guidelines for HHAs for the electronic transmission of the OASIS data set as well as responsibilities of the State agency or OASIS contractor in collecting and transmitting this information to HCFA. These requirements are necessary to establish a prospective payment system for HHAs and to achieve broad-based, measurable improvement in the quality of care furnished through Federal programs; Frequency: Monthly; Affected Public: Business or other for profit, Not for profit institutions, Federal Government, and State, Local, or Tribal Government; Number of Respondents: 7,100; Total Annual Responses: 85,200; Total Annual Hours: 996,368.

2. Type of Information Collection Request: Extension of a currently approved collection; Title of Information Collection: Medicare and Medicaid Programs: Use of Outcome and Assessment Information Set (OASIS) as Part of the Conditions of Participation for Home Health Agencies and Supporting Regulations in 42 CFR 484.55 and 484.220; Form No.: HCFA-R-0245 (OMB# 0938-0760); Use: These information collection requirements in 42 CFR 484.55 and 484.220 require, as a condition of participation for home health agencies in the Medicare program, that each patient receive from the agency a patient-specific, comprehensive assessment that identifies the patient's need for home care and that meets the patient's medical, nursing, rehabilitative, social and discharge planning needs. In addition, they require that as part of the comprehensive assessment, agencies use a standard core assessment data set, the OASIS, when evaluating adult, non-maternity patients; Frequency: On patient assessment Affected Public: Business or other for profit, Not for profit institutions, Federal Government, and State, Local, or Tribal Government; Number of Respondents: 7,100; Total Annual Responses: 9,510,900; Total Annual Hours: 10,454,100.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 30 days of this notice directly to the OMB desk officer: OMB Human Resources and Housing Branch, Attention: Wendy Taylor, New Executive Office Building, Room 10235, Washington, DC 20503.

Dated: March 19, 2001.
John P. Burke III,
HCFA Reports Clearance Officer, HCFA Office of Information Services, Security and Standards Group, Division of HCFA Enterprise Standards.

[FR Doc. 01-8728 Filed 4-9-01; 8:45 am]

BILLING CODE 4120-03-P